DEPARTMENT OF TRANSPORTATION

Federal Aviation Administration

14 CFR Part 39

[Docket No. FAA-2013-0475; Directorate Identifier 2013-NE-18-AD; Amendment 39-17669; AD 2013-23-14]

RIN 2120-AA64

Airworthiness Directives; General Electric Company Turbofan Engines

AGENCY: Federal Aviation Administration (FAA), DOT.

ACTION: Final rule.

SUMMARY: We are adopting a new airworthiness directive (AD) for certain General Electric Company model GEnx-2B67 and GEnx-2B67B turbofan engines. This AD was prompted by the original equipment manufacturer's disclosure that certain critical rotating life-limited parts (LLPs) used in Boeing 747-8 flight tests had consumed more cyclic life than they would have in revenue flight cycles. These parts were then installed into engines and introduced into revenue service without adjustment to remaining cyclic life. This AD requires a one-time adjustment to the cycle counts of those LLPs to account for the additional low cycle fatigue (LCF) life consumed during flight tests. We are issuing this AD to prevent the failure of critical rotating LLPs, uncontained engine failure, and damage to the airplane.

DATES: This AD is effective January 7, 2014.

The Director of the Federal Register approved the incorporation by reference of a certain publication listed in this AD as of January 7, 2014.

ADDRESSES: For service information identified in this AD, contact General Electric Company, GE Aviation, Room 285, 1 Neumann Way, Cincinnati, OH 45215; phone: 513-552-3272; email: geae.aoc@ge.com. You may view this service information at the FAA, Engine & Propeller Directorate, 12 New England Executive Park, Burlington, MA 01803. For information on the availability of this material at the FAA, call (781) 238-7125.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is provided in the ADDRESSES section. Comments will be available in the AD docket shortly after receipt.

FOR FURTHER INFORMATION CONTACT: Carlos Fernandes, Aerospace Engineer, Engine Certification Office, FAA, Engine & Propeller Directorate, 12 New England Executive Park, Burlington, MA 01803; phone: (781) 238-7189; fax: (781) 238-7199; email: carlos.fernandes@faa.gov.

SUPPLEMENTARY INFORMATION:

Discussion

We issued a notice of proposed rulemaking (NPRM) to amend 14 CFR part 39 by adding an AD that would apply to the specified products. The NPRM published in the Federal Register on August 5, 2013 (78 FR 47235). The NPRM proposed to require a one-time adjustment to the cycle counts of certain critical rotating LLPs to account for the additional LCF life consumed in Boeing 747-8 flight tests.

Comments

We gave the public the opportunity to participate in developing this AD. We received no comments on the NPRM or on the determination of the cost to the public.

Conclusion

We reviewed the relevant data and determined that air safety and the public interest require adopting the AD as proposed, except for minor editorial changes. We have determined that these minor changes:

• Are consistent with the intent that was proposed in the NPRM (78 FR 47235, August 5, 2013) for correcting the unsafe condition; and

• Do not add any additional burden upon the public than was already proposed in the NPRM.

Costs of Compliance

We estimate that this AD affects 4 engines installed on airplanes of U.S. registry. We also estimate that it will take about 1 hour per engine to comply with this AD. The average labor rate is $85 per hour. The prorated cost of required parts will be about $50,000 per engine. Based on these figures, we estimate the cost of this AD to U.S. operators to be $200,340.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-23-14 General Electric Company: Amendment 39-17669; Docket No. FAA-2013-0475; Directorate Identifier 2013-NE-18-AD.

(a) Effective Date

This AD is effective January 7, 2014.

(b) Affected ADs

None.

(c) Applicability

This AD applies to certain serial number General Electric Company (GE) model GEnx-2B67 and GEnx-2B67B turbofan engines. The affected engine serial numbers are: 959-102 through 959-104; 959-107; 959-110 through 959-111; 959-113 through 959-118; 959-121; 959-124 through 959-133; 959-159 through 959-161; 959-164; 959-176; and 959-191.

(d) Unsafe Condition

This AD was prompted by GE's report that certain critical rotating life-limited parts (LLPs) used in Boeing 747-8 flight tests had consumed more cyclic life than they would have in revenue service flights. These parts were then installed into engines and introduced into revenue service without adjustment to remaining cyclic life. We are issuing this AD to prevent the failure of critical rotating LLPs, uncontained engine failure, and damage to the airplane.

(e) Compliance

Comply with this AD within the compliance times specified, unless already done.

(f) Adjust the Cycle Counts of Certain Critical Rotating LLPs

Within 30 days after the effective date of this AD, perform a one-time adjustment to the cycle count of each part identified in paragraph 4, Appendix A, of GE Service Bulletin No. GEnx-2B S/B 72-0116, Revision 1, dated April 23, 2013.

(g) Alternative Methods of Compliance (AMOCs)

The Manager, Engine Certification Office, FAA, may approve AMOCs for this AD. Use the procedures found in 14 CFR 39.19 to make your request.

(h) Related Information

For more information about this AD, contact Carlos Fernandes, Aerospace Engineer, Engine Certification Office, FAA, Engine & Propeller Directorate, 12 New England Executive Park, Burlington, MA 01803; phone: (781) 238-7189; fax: (781) 238-7199; email: carlos.fernandes@faa.gov.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) General Electric (GE) Service Bulletin No. GEnx-2B S/B 72-0116, Revision 1, dated April 23, 2013.

(ii) Reserved.

(3) For GE service information identified in this AD, contact General Electric Company, GE Aviation, Room 285, 1 Neumann Way, Cincinnati, OH 45215; phone: 513-552-3272; email: geae.aoc@ge.com.

(4) You may view this service information at FAA, Engine & Propeller Directorate, 12 New England Executive Park, Burlington, MA. For information on the availability of this material at the FAA, call (781) 238-7125.

(5) You may view this service information at the National Archives and Records Administration (NARA). For information on the availability of this material at NARA, call 202-741-6030, or go to: http://www.archives.gov/federal-register/cfr/ibr-locations.html.

Issued in Burlington, Massachusetts, on November 14, 2013.
Frank P. Paskiewicz,
Acting Director, Aircraft Certification Service.

[FR Doc. 2013-28293 Filed 12-2-13; 8:45 am]

BILLING CODE 4910-13-P